DEPARTMENT OF VETERANS AFFAIRS

[OMB Control No. 2900-0188]

Agency Information Collection Activity Under OMB Review: Claim, Authorization & Invoice for Prosthetic Items & Services

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before November 29, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0188” in any correspondence.

FOR FURTHER INFORMATION CONTACT: Cynthia Harvey-Pryor, Office of Quality, Privacy and Risk (OQPR), Department of Veterans Affairs, 810 Vermont Avenue NW., Washington, DC 20420, (202) 461-5870 or email cynthia.harvey-pryor@va.gov. Please refer to “OMB Control No. 2900-0188” in any correspondence.

SUPPLEMENTARY INFORMATION:

Authority: U.S.C. 3901-3904 and 1701(6).

Title: Claim, Authorization & Invoice for Prosthetic Items & Services.

OMB Control Number: 2900-0188.

Type of Review: Revision of a currently approved collection.

Abstract: The Department of Veterans Affairs (VA), through its Veterans Health Administration (VHA), administers medical services established by law. Title 38 U.S.C. Section 1701(6) includes prosthetic items within the scope of medical services. Title 38 U.S.C. Section 3901, 3902, 3903, 3904, and 1162 authorize the Secretary to provide each person eligible for an automobile grant the adaptive equipment deemed necessary to insure that the person will be able to operate the automobile safely, in a manner consistent with the safety of others and to satisfy the applicable standards of licensure established by the state of residency.

An agency may not conduct or sponsor, and a person is not required to respond to a collection of information unless it displays a currently valid OMB control number. The Federal Register Notice with a 60-day comment period soliciting comments on this collection of information was published at 82 FR 39951 on August 22, 2017; page 39951.

Affected Public: Individuals and households.

Estimated Annual Burden:

10-0103—583 hours.

10-1394—1,000 hours.

10-2421—67 hours.

10-2520—47 hours.

10-2914—3,333 hours.

FL 10-90—708 hours.

Estimated Average Burden per Respondent:

10-0103—5 minutes.

10-1394—15 minutes.

10-2421—4 minutes.

10-2520—4 minutes.

10-2914—4 minutes.

FL 10-90—5 minutes.

Frequency of Response: Annually.

Estimated Number of Respondents:

10-0103—7,000.

10-1394—4,000.

10-2421—1,000.

10-2520—700.

10-2914—50,000.

FL 10-90—8,500.

By direction of the Secretary.
Cynthia Harvey-Pryor,
Department Clearance Officer, Office of Quality, Privacy and Risk, Department of Veterans Affairs.

[FR Doc. 2017-23538 Filed 10-27-17; 8:45 am]

BILLING CODE 8320-01-P